DEPARTMENT OF COMMERCE

National Institute of Standards and Technology

[Notice 1]

National Fire Codes: Request for Comments on NFPA Technical Committee Reports

AGENCY: National Institute of Standards and Technology, Commerce.

ACTION: Notice.

SUMMARY: The National Fire Protection Association (NFPA) revises existing standards and adopts new standards twice a year. At both its November Meeting and its May Meeting, the NFPA acts on recommendations made by its technical committees.

The purpose of this notice is to request comments on the technical reports that will be presented at NFPA's 2001 November Meeting. The publication of this notice by the National Institute of standards and Technology (NIST) on behalf of NFPA is being undertaken as a public service; NIST does not necessarily endorse, approve, or recommend any of the standards referenced in the notice.

DATES: Thirty-five reports are published in the “2001 November Meeting Report on Proposals” and will be available on January 19, 2001. Comments received on or before March 30, 2001 will be considered by the respective NFPA Committees before final action is taken on the proposals.

ADDRESSES: The “2001 November Meeting Report on Proposals” is available and downloadable from NFPA's Website—www.nfpa.org or by requesting a copy from the NFPA, Fulfillment Center, 11 Tracy Drive, Avon, MA 02322. Comments on the report should be submitted to Casey C. Grant, Secretary, Standards Council, NFPA, 1 Batterymarch Park, P.O. Box 9101, Quincy, Massachusetts 02269-9101.

FOR FURTHER INFORMATION CONTACT: Casey C. Grant, Secretary, Standards Council, NFPA, 1 Batterymarch Park, Quincy, MA 02269-9101, (617) 770-3000.

SUPPLEMENTARY INFORMATION:

Background

The National Fire Protection Association (NFPA) develops building, fire, and electrical safety codes and standards. Federal agencies frequently use these codes and standards as the basis for developing Federal regulations concerning fire safety. Often, the Office of the Federal Register approves the incorporation by reference of these standards under 5 U.S.C. 552(a) and 1 CFR Part 51.

Revisions of existing standards and adoption of new standards are reported by the technical committees at the NFPA's November Meeting or at the May Meeting each year. The NFPA invites public comments on its “Report on Proposals.”

Request for Comments

Interested persons may participate in these revisions by submitting written data, views, or arguments to Casey C. Grant, Secretary, Standards Council, NFPA, 1 Batterymarch Park, Quincy, Massachusetts 02269-9101. Commenters may use the forms provided for comments in the “Report on Proposals.” Each person submitting a comment should include his or her name and address, identify the notice, and give reasons for any recommendations. Comments received on or before March 30, 2001 for the “2001 November Meeting Report on Proposals” will be considered by the NFPA before final action is taken on the proposals.

Copies of all written comments received and the disposition of those comments by the NFPA committees will be published as the “2001 November Meeting Report on Comments” by September 21, 2001, prior to the November Meeting.

A copy of the Report on Comments will be sent automatically to each commenter. Action on the reports of the Technical Committees (adoption or rejection) will be taken by NFPA members at the November Meeting, November 13-17, 2001 in Dallas, Texas.

Dated: December 18, 2000.
Karen Brown,
Deputy Director.

2001 November Meeting

Report on Proposals

Doc. No. | Title | Action
NFPA 25 | Standard for the Inspection, Testing, and Maintenance of Water-Based Fire Protection System | P
NFPA 37 | Standard for the Installation and Use of Stationary Combustion Engines and Gas Turbines | C
NFPA 51 | Standard for the Design and Installation of Oxygen-Fuel Gas Systems for Welding, Cutting, and Allied Processes | P
NFPA 68 | Guide for Venting of Deflagrations | C
NFPA 76 | Recommended Practice for the Protection of Telecommunications Facilities | N
NFPA 99 | Standard for Health Care Facilities | P
NFPA 99B | Standard for Hypobaric Facilities | P
NFPA 99C | Standard for Gas and Vacuum Systems | P
NFPA 110 | Standard for Emergency and Standby Power Systems | C
NFPA 204 | Guide for Smoke and Heat Venting | C
NFPA 266 | Standard Method of Test for Fire Characteristics of Upholstered Furniture Exposed to Flaming Ignition Source | W
NFPA 270 | Standard Test Method for Measurement of Smoke Obscuration Using a Conical Radiant Source in a Single Closed Chamber | C
NFPA 471 | Recommended Practice for Responding to Hazardous Materials Incidents | P
NFPA 472 | Standard for Professional Competence of Responders to Hazardous Materials Incidents | C
NFPA 473 | Standard for Competencies for EMS Personnel Responding to Hazardous Materials Incidents | P
NFPA 560 | Standard for the Storage, Handling, and Use of Ethylene Oxide for Sterilization and Fumigation | P
NFPA 902 | Fire Reporting Field Incident Guide | W
NFPA 903 | Fire Reporting Property Survey Guide | W
NFPA 904 | Incident Follow-up Report Guide | W
NFPA 1041 | Standard for Fire Service Instructor Professional Qualifications | P
NFPA 1051 | Standard for Wildland Fire Fighter Professional Qualifications | C
NFPA 1061 | Standard for Professional Qualifications for Public Safety Telecommunicator | P
NFPA 1192 | Standard for Recreational Vehicles | P
NFPA 1194 | Standard for Recreational Vehicle Parks and Campgrounds | P
NFPA 1402 | Guide to Building Fire Service Training Centers | C
NFPA 1403 | Standard on Live Fire Training Evolutions | C
NFPA 1404 | Standard for a Fire Department Self-Contained Breathing Apparatus Program | C
NFPA 1451 | Standard for a Fire Service Vehicle Operations Training Program | C
NFPA 1500 | Standard on Fire Department Occupational Safety and Health Program | C
NFPA 1521 | Standard for Fire Department Safety Officer | W
NFPA 1561 | Standard on Emergency Services Incident Management System | C
NFPA 1852 | Standard on Selection, Care, and Maintenance on Open-Circuit SCBA | N
NFPA 1961 | Standard for Fire Hose | C
NFPA 1981 | Standard on Open-Circuit Self-Contained Breathing Apparatus for the Fire Service | C
NFPA 1982 | Standard on Personal Alert Safety Systems (PASS) | C
(P=Partial revision; W=Withdrawal; R=Reconfirmation; N=New; C=Complete Revision)

[FR Doc. 00-32673 Filed 12-21-00; 8:45 am]

BILLING CODE 3510-13-M